Title 3—

The President

Proclamation 7507 of November 29, 2001

National Diabetes Month, 2001

By the President of the United States of America

A Proclamation

During the past century, we have made significant progress in our fight against disease. Through public health campaigns and aggressive research, we have eliminated polio in the United States, reduced the harm of influenza outbreaks, and developed revolutionary new medications that provide relief and healing from many chronic and acute illnesses. However, effective treatments and cures to numerous other illnesses remain elusive and demand our continued attention and resources. One of the most prevalent and difficult of these is diabetes, which currently afflicts more than 16 million Americans.

Diabetes can cause blindness, renal disease, severe nerve damage, heart disease, strokes, and even death. This year approximately 800,000 men, women, and children in the United States will develop diabetes, and health officials estimate that it will be a contributing factor in almost 200,000 deaths. The total economic cost for providing medical treatment for diabetes patients and for disability and deaths related to the disease is approximately $100 billion a year. More troubling are statistics indicating that more than 5 million Americans are unaware of their diabetic condition, seriously jeopardizing their long-term health and well-being. An additional 10 million citizens are at high-risk of developing type 2 diabetes due largely to physical inactivity, obesity, and poor diet.

Recent scientific findings demonstrate that modest, consistent exercise and a healthy diet can curtail the risk of type 2 diabetes in individuals by nearly 60 percent. This information provides great hope in our efforts to reduce the incidence of diabetes and creates a renewed sense of urgency to ensure that all Americans are aware of practical steps that can be taken to reduce their risk for diabetes.

My Administration is strongly committed to fighting diabetes both by working in cooperation with dedicated staff and volunteers of private organizations to develop strong public education programs and by increased Federal funding for medical research. The Centers for Disease Control and Prevention and the National Institutes of Health (NIH) have established the National Diabetes Education Program (NDEP) to help familiarize Americans with the risks of diabetes and what can be done to minimize its complications. The NDEP will also offer practical information about preventing the cardiovascular complications of diabetes through the campaign, “Be Smart About Your Heart: The ABCs of Diabetes.” Medical research is providing exciting advances in our prevention and treatment strategies for diabetes, and my fiscal year 2002 budget reflects a significant increase in funding to continue the valuable diabetes research programs at the NIH.

I am confident that our Nation's health care professionals, nurses, scientists, educators, and volunteers will continue to provide quality care to those who currently suffer from diabetes, and, through their work, we will one day find a cure for this terrible disease. On the observance of National Diabetes Month, we honor those who are working diligently to advance our knowledge and understanding of diabetes. We also recognize the value of educating ourselves about health risks and the importance of healthy lifestyle habits.

NOW, THEREFORE, I, GEORGE W. BUSH, President of the United States of America, by virtue of the authority vested in me by the Constitution and laws of the United States, do hereby proclaim November 2001 as National Diabetes Month. I call on all Americans to increase their awareness of the risk factors and symptoms related to diabetes and to observe this month with appropriate activities and programs.

IN WITNESS WHEREOF, I have hereunto set my hand this twenty-ninth day of November, in the year of our Lord two thousand one, and of the Independence of the United States of America the two hundred and twenty-sixth.

B

[FR Doc. 01-30145

Filed 12-3-01; 8:45 am]

Billing code 3195-01-P